Title 3—

The President

Proclamation 7598 of September 27, 2002

Gold Star Mother's Day, 2002

By the President of the United States of America

A Proclamation

Throughout our rich history, many of our Nation's dedicated military men and women have served and sacrificed their lives to secure our country, defend our freedoms, and preserve the values of our democracy. Many of these heroes fell in battle, leaving behind family, friends, and loved ones who grieve their loss to this day. Every year, we recognize and honor mothers who have lost sons and daughters in service to our country—our Gold Star Mothers—and we thank them for their strength and their contributions to our Nation.

Our Gold Star Mothers help us remember those who have been lost by upholding the ideals for which their children gave their lives. These brave women are devoted to improving and enhancing the lives of those in our Armed Forces, their families, and our veterans, and they encourage civic education, patriotism, and the teaching of American history. These efforts enrich the lives of countless young Americans, and they support my Administration's work to build a culture of service, citizenship, and responsibility in our country.

By advancing national pride and promoting international goodwill, Gold Star Mothers serve as models of grace and strength. As we honor their patriotism and dedication, we renew our commitment to upholding the honorable legacy of their fallen children by pursuing a future of security, liberty, and peace.

The Congress, by Senate Joint Resolution 115 of June 23, 1936, (49 Stat. 1895 as amended), has designated the last Sunday in September as “Gold Star Mother's Day,” and has authorized and requested the President to issue a proclamation in observance of this day.

NOW, THEREFORE, I, GEORGE W. BUSH, President of the United States of America, do hereby proclaim Sunday, September 29, 2002, as Gold Star Mother's Day. I call upon all Government officials to display the flag of the United States over Government buildings on this solemn day. I also encourage the American people to display the flag and to hold appropriate meetings in their homes, places of worship, or other suitable places as a public expression of the sympathy and respect that our Nation holds for our Gold Star Mothers.

IN WITNESS WHEREOF, I have hereunto set my hand this twenty-seventh day of September, in the year of our Lord two thousand two, and of the Independence of the United States of America the two hundred and twenty-seventh

B

[FR Doc. 02-25367

Filed 10-2-02; 8:45 am]

Billing code 3195-01-P.